DEPARTMENT OF AGRICULTURE

Submission for OMB Review; Comment Request

September 11, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Cooperative State Research, Education, and Extension Service

Title: National Research Initiative Competitive Grants Program.

OMB Control Number: 0524-0033.

Summary of Collection: The Cooperative State Research, Education, and Extension Service (CSREES) administers several competitive and non-competitive grant programs. 7 U.S.C. 450i (Competitive, Special, and Facilities Research Grant Act) authorizes these programs. CSREES has primary responsibility for providing linkages between the Federal and State components of a broad-based, national agricultural research, extension, and education system. Focused on national issues, its purpose is to represent the Secretary of Agriculture and carry out the intent of Congress by administering formula and grant funds appropriated for agricultural, research, extension, and education. Before awards can be made, certain information is required from applicants as part of an overall proposal package. CSREES will collect information using forms CSREES 1232, 1233, and 1234.

Need and Use of the Information: CSREES will collect information to evaluate proposals and award grants.

Description of Respondents: State, Local, or Tribal Government; Federal Government; Individuals or households; Business or other for-profit; Not-for profit institutions.

Number of Respondents: 5,000.

Frequency of Responses: Recordkeeping; Reporting: On occasion.

Total Burden Hours: 20,450.

National Agricultural Statistics Service

Title: Agricultural Resource Management, Chemical Use, and Post-Harvest Chemical Use Surveys.

OMB Control Number: 0535-0218.

Summary of Collection: The primary objective of the National Agricultural Statistics Service (NASS) is to provide the public with timely and reliable agricultural production and economic statistics, as well as environmental and specialty agricultural related statistics. Three surveys—the Agricultural Resource Management Study, the Fruit and Vegetable Chemical Use Surveys, and the Post-harvest Chemical Use Survey—are critical to NASS' ability to fulfill these objectives and to build the Congressionally mandated database on agricultural chemical use and related farm practices. NASS uses a variety of survey instruments to collect the information in conjunction with these studies.

Need and Use of the Information: The Agricultural Resource Management Study provides a robust database of information to address varied needs of policy makers. There are many uses for the information from this study including an evaluation of the safety of the Nation's food supply; input to the farm sector portion of the gross domestic product; and as a barometer on the financial condition of farm businesses. Data from the Fruit and Vegetable Chemical Use Surveys is used to assess the environmental and economic implications of various program and policies and the impact on agricultural producers and consumers. The results of the Post-harvest Chemical Use Survey are used by the Environmental Protection Agency (EPA) to develop Food Quality Protection Act risk assessments. Other organizations use this data to make sound regulatory decisions.

Description of Respondents: Farms.

Number of Respondents: 122,706.

Frequency of Responses: Reporting: Annually.

Total Burden Hours: 41,017.

National Agricultural Statistics Service

Title: Census of Agriculture Content Test.

OMB Control Number: 0535-NEW.

Summary of Collection: The National Agricultural Statistics Service (NASS) is responsible for conducting the Census of Agriculture under the authority of the Census of Agriculture Act of 1997, Public Law 105-113. In support of this effort, NASS conducts a pilot study 2 years prior to each census to test factors affecting response such as wording, capability of respondents to answer questions, availability of records, and perception of usefulness of the census data. This test is important to assessing potential changes prior to making adjustments to the full-scale census. The current proposal for the Census of Agriculture content test involves the redesign of the collection form in intelligent character recognition (ICR) format for scanning, wording changes, new content items, and order of the sections. Additionally, a substantially lower number of respondents will be involved in this content test than in the previous version.

Need and Use of the Information: The Census of Agriculture Content Test is critical to NASS' ability to design a successful census survey. The actual Census of Agriculture is required by law every five years and serves as the basis for many agriculturally-based decisions. Without the content test, NASS would not be able to ensure that the actual census involved clear questions that would be easily and accurately answered by the affected public.

Description of Respondents: Farms.

Number of Respondents: 122,706.

Frequency of Respondents: Reporting: Annually.

Total Burden Hours: 41,017.

Rural Business-Cooperative Services

Title: 7 CFR 2484-F, Rural Cooperative Development Grant.

OMB Control Number: 0570-0006.

Summary of Collection: This program is administered through State Rural Development Offices on behalf of the Rural Business-Cooperative Services (RBS). The primary objective of the program is to improve the economic condition of rural areas through cooperative development. The applicants, who are non-profit corporations or institutions of higher education, will provide information using various forms and supporting documentation.

Need and Use of the Information: RBS will use the information collected to evaluate the applicant's ability to carry out the purposes of the program. Grant funds will be awarded on a competitive basis using a scoring system that gives preference to applications that demonstrate a proven track record. If this information were not collected, RBS would have not basis on which to evaluate the relative merit of each application.

Description of Respondents: Individuals or households; Not for profit institutions; State, Local or Tribal Government.

Number of Respondents: 50.

Frequency of Responses: Recordkeeping; Reporting: On occasion.

Total Burden Hours: 1848.

Rural Housing Service

Title: 7 CFR 1944-D, Farm Labor Housing Loan and Grant Policies, Procedures, and Authorization.

OMB Control Number: 0575-0045.

Summary of Collection: Sectin 514 and 516 of Title V of the Housing Act of 1949 authorizes Rural Housing Service (RHS) to make loans and grants to public, private nonprofit and farm worker organizations for developing farm labor. The objective of this program is to provide decent, safe, and sanitary housing and related facilities for domestic farm labor and migrant labor in areas where needed.

Need and Use of the Information: The information collected is based on the program requirements and regulations which help determine an applicant's eligibility for a loan and/or grant. RHS has the responsibility for protecting the interest of taxpayer's funds and to assure that the objectives of the loan and grant program are carried out as intended. Failure to have this information would result in illegal and unauthorized use of federal funds.

Description of Respondents: Farms; Not for profit institutions; State, Local or Tribal Government.

Number of Respondents: 95.

Frequency of Responses: Recordkeeping; Reporting: On occasion.

Total Burden Hours: 8524.

Food Nutrition Service

Title: Monthly Claim For Reimbursement.

OMB Control Number: 0584-0284.

Summary of Collection: The Child Nutrition Act of 1966 requires that educational agencies disburse and appropriate funds during the fiscal year for the purposes of carrying out provisions of the Special Milk Program (SMP). The National School Lunch Act requires that State educational agencies disburse appropriated funds paid to the state for any fiscal year for the purposes of fulfilling the earned reimbursement set forth in National School Lunch, Breakfast, and Special Milk Programs. The Food and Nutrition Service will use the monthly claim reimbursement form FNS-806 to fulfill the earned requirements identified in these programs. National School Lunch Program (NSLP), SMP, and the School Breakfast Program (SBP).

Need and Use of The Information: The information is collected electronically from school authorities that participate in NSLP, School Breakfast Program (SBP), and SMP programs. The forms contain meal and cost data collected from authorized program participants. Also, these forms are an essential part of the accounting system used by the subject programs to ensure proper reimbursement. This information is collected monthly because of the constant fluctuation in school enrollment and program participation. Program participants would not receive the monthly reimbursement earned and the Agency would lose program accountability, if this information were collected less frequently.

Description of Respondents: Farms; Not for profit institutions; State, Local or Tribal Government.

Number of Respondents: 520.

Frequency of Responses: Recordkeeping; Reporting: Monthly.

Total Burden Hours: 2700.

Forest Service

Title: National Survey on Recreation and the Environment.

OMB Control Number: 0596-0127.

Summary of Collection: The National Survey on Recreation and the Environment (NSRE) 2000 is the latest in a series of surveys conducted by the Forest Service (FS) which began in 1960 as the primary source of recreation data from the U.S. population. This information is vital for federal land managing agencies to obtain an understanding of the outdoor recreation participation levels and preferences of the American people so that effective policy making, planning, and decision-making can occur. Information from the survey is shared with and relied upon by organizations outside the federal government including educational institutions, private sector companies, state agencies, and other governmental organizations as the fundamental source of outdoor recreation trend and demand data on a national scale. The survey will be administered using a statistically valid sampling methodology through computer-assisted telephone interviewing techniques

Need and Use of the Information: FS will collect information nationally from the public to assess trends in recreation participation over the years since the survey was last conducted and to estimate demand for outdoor recreation among the U.S. population. In addition, the survey will collect information from the public on people's attitudes and values toward natural resources and their management. The information will be used by FS and other federal agencies to develop long-range strategic plans, adjust programs and activities to meet customer needs and expectations, and better manage federally owned lands.

Description of Respondents: Individuals or households.

Number of Respondents: 40,000.

Frequency of Responses: Reporting: Other (one time).

Total Burden Hours: 13,333.

This is a revision to the number of respondents and burden hours reported in the Federal Register on May 2, 2000 (25464). Due to an error in estimating, the numbers reported in the register were 20,000 respondents and 6,000 hours. The revised number for the respondents should be 40,000 and 13,333 for the burden hours.

Food and Nutrition Service

Title: Food Stamp Program Identification Cards.

OMB Control Number: 0584-0124.

Summary of Collection: The Food Stamp Act of 1977 requires that photographic identification (ID) cards be used in issuance situations in which the Department believes that it would be useful to protect the integrity of the Food Stamp Program (FSP). These requirements are essential to ensure the integrity of the FSP. The ID is required by Food and Nutrition Service (FNS) regulation to be a controlled document, laminated with a serial number and a photograph.

Need and Use of the Information: Photo ID are used by issuance agents to identify households for monthly issuance; by retailers to identify households when benefits are used; and by households to provide proof at recertification and when picking up monthly allotments. The use of the photo ID card and the requirement to show it to obtain benefits is crucial to the agency's ability to protect the integrity of the Food Stamp Program.

Description of Respondents: State, Local, or Tribal Government; Individuals or households.

Number of Respondents: 329,293.

Frequency of Responses: Recordkeeping; Reporting: On occasion.

Total Burden Hours: 21,250.

Nancy B. Sternberg,
Departmental Clearance Officer.

[FR Doc. 00-23711 Filed 9-14-00; 8:45 am]

BILLING CODE 3410-01-M